DEPARTMENT OF HEALTH AND HUMAN SERVICES

Administration for Children and Families

Submission for OMB Review; Comment Request

Title: Planning Grants To Develop a Model Intervention for Youth/Young Adults with Child Welfare Involvement At-Risk of Homelessness.

OMB No.: New Collection.

Description: The Administration for Children and Families (ACF), U.S. Department of Health and Human Services intends to collect data for an process evaluation of the “Planning Grants to Develop a Model Intervention for Youth/Young Adults with Child Welfare Involvement at-Risk of Homelessness” program. This two year program, funded by the Children's Bureau within ACF, will support planning grants to develop a model for intervening with youth who have experienced time in foster care and are most likely to have a challenging transition to adulthood, including the possibility of homelessness or unstable housing.

Respondents: Members of the planning team, which includes: Directors and staff from grantee agencies and partner agencies. Partner agencies may vary by site, but they are expected to include child welfare, mental health, and youth housing/homelessness agencies.

Annual Burden Estimates
Instrument | Total number of respondents | Annual number of respondents | Annual number of responses per respondent | Average burden hours per response | Annual burden hours
Survey Sampling Form | 36 | 18 | 1 | .25 | 5
Survey of Organizational Readiness and Partnership | 540 | 270 | 1 | 1 | 270

Estimated Total Annual Burden Hours: 275.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Karl Koerper,
OPRE Reports Clearance Officer.

[FR Doc. 2014-00854 Filed 1-16-14; 8:45 am]

BILLING CODE 4184-01-P